OVERSEAS PRIVATE INVESTMENT CORPORATION

January 11, 2007 Public Hearing

OPIC's Sunshine Act notice of its Public Hearing in Conjunction with each Board meeting was published in the Federal Register (Volume 71, Number 246, Page 77074) on December 22, 2006. No requests were received to provide testimony or submit written statements for the record; OPIC's public hearing scheduled for 3 p.m., January 11, 2007 in conjunction with OPIC's January 18, 2007 Board of Directors meeting has been cancelled.

Contact Person for Information: Information on the hearing cancellation may be obtained from Connie M. Downs at (202) 336-8438, via facsimile at (202) 218-0136, or via e-mail at cdown@opic.gov.

Dated: January 8, 2007.
Connie M. Downs,
OPIC Corporate Secretary.

[FR Doc. 07-85 Filed 1-8-07; 3:19 pm]

BILLING CODE 3210-01-M